ENVIRONMENTAL PROTECTION AGENCY

[FRL-9648-2]

Meetings of the Local Government Advisory Committee and the Small Communities Advisory Subcommittee

AGENCY: Environmental Protection Agency.

ACTION: Notice.

SUMMARY: The Small Communities Advisory Subcommittee (SCAS) will meet via teleconference on Tuesday, March 27, 2012, 2 p.m.-3 p.m. (ET), and the SCAS will meet at EPA's Region 8 office in Denver, CO, on Thursday, April 18, 2012, 3 p.m.-5 p.m. (MT). The Subcommittee will discuss decentralized wastewater treatment and other issues and recommendations to the Administrator regarding environmental issues affecting small communities. These are open meetings, and all interested persons are invited to participate. The Subcommittee will hear comments from the public during the teleconference on Tuesday, March 27, 2012 between 2:50 p.m. and 3 p.m. (ET) and during the meeting on Thursday, April 18, 2012 between 4:45 p.m. and 5 p.m. (MT). Individuals or organizations wishing to address the Subcommittee will be allowed a maximum of five minutes to present their point of view. Also, written comments should be submitted electronically to davis.catherinem@epa.gov. Please contact the Designated Federal Officer (DFO) at the number listed below to schedule a time on the agenda. Time will be allotted on a first-come first-serve basis, and the total period for comments may be extended if the number of requests for appearances requires it.

The Local Government Advisory Committee (LGAC) will meet at EPA's Region 8 office in Denver, CO, on Thursday, April 19, 2012, 10 a.m.-4:15 p.m. (MT), and Friday, April 20, 2012, 9 a.m.-12 p.m. (MT). The Committee will discuss integrated water quality planning, hydraulic fracturing, air quality issues and environmental justice and Title VI. This is an open meeting and all interested persons are invited to participate. The Committee will hear comments from the public between 4 p.m.-4:15 p.m. (MT) on Thursday, April 19, 2012. Individuals or organizations wishing to address the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

ADDRESSES: The Small Communities Advisory Subcommittee and Local Government Advisory Committee meetings will be held at U.S. EPA Region 8 Office, 1595 Wynkoop St., Denver, CO 80202-1129. [Meeting summaries will be available after the meeting online at www.epa.gov/ocir/scas_lgac/lgac_index.htm and can be obtained by written request to the DFO].

FOR FURTHER INFORMATION CONTACT: Local Government Advisory Committee (LGAC) contact Frances Eargle at (202) 564-3115 or email at eargle.frances@epa.gov. For the Small Communities Advisory Subcommittee (SCAS), contact Cathy Davis, Designated Federal Officer at (202) 564-2703 or email at davis.catherinem@epa.gov.

Information On Services for Those With Disabilities: For information on access or services for individuals with disabilities, please contact Frances Eargle at (202) 564-3115 or eargle.frances@epa.gov. To request accommodation of a disability, please request it 10 days prior to the meeting, to give EPA as much time as possible to process your request.

Dated: March 7, 2012.
Frances Eargle,
Designated Federal Officer, Local Government Advisory Committee.

[FR Doc. 2012-6423 Filed 3-15-12; 8:45 am]

BILLING CODE 6560-50-P